DEPARTMENT OF AGRICULTURE

Agricultural Marketing Service

7 CFR Parts 51 and 52

[Doc. No. AMS-SC-16-0063]

Revisions to Inspection Application Requirements

AGENCY: Agricultural Marketing Service, USDA.

ACTION: Extension of comment period.

SUMMARY: Notice is hereby given that the comment period for the interim rule on revisions to inspection application requirements is extended until March 23, 2017. The rule invited comments on amendments to the inspection requirements for fresh and processed fruits, vegetables, and other products that added an option for electronic inspection application submissions. The rule also updated terminology in the regulations to reflect the use of modern technology in common use by the industry.

DATES: Comments received by March 23, 2017, for the interim rule published in the Federal Register on December 21, 2016 (81 FR 93571), will be considered prior to issuance of a final rule.

ADDRESSES: Interested persons are invited to submit comments via the internet at: http://www.regulations.gov. Comments submitted by mail or courier must be sent in duplicate to Francisco Grazette, United States Department of Agriculture (USDA), Agricultural Marketing Service (AMS), Specialty Crops Program (SCP), Specialty Crops Inspection (SCI) Division, 1400 Independence Ave. SW., Room 1536, Stop 0240, Washington, DC 20250 or Facsimile: (202) 720-0393. All comments should reference the document number and the dates and page numbers of the December 21, 2016, issue and this issue of the Federal Register. All comments received will be posted online without change, including any personal information provided, and will be made available for public inspection at the above physical address during regular business hours.

FOR FURTHER INFORMATION CONTACT: Francisco Grazette, USDA, AMS, SCP, SCI Division, 1400 Independence Ave. SW., Room 1536, Stop 0240, Washington, DC 20250-5870; facsimile: (202) 720-0393; or email: Francisco.Grazette@ams.usda.gov.

SUPPLEMENTARY INFORMATION: An interim rule was published in the Federal Register on December 21, 2016 (81 FR 93571), and was made effective on December 22, 2016. The rule revised the inspection, certification, and standards requirements for domestic and imported fresh and processed fruits, vegetables, and other products by adding an option for electronic submissions of inspection applications. As well, the rule removed outdated terminology referring to the use of the telegraph. The changes are administrative in nature and do not impose any new requirements on applicants. The interim rule supports the use of electronic forms to streamline the export and import process for America's businesses, and will allow businesses to electronically submit required data to U.S. Customs and Border Protection and its Partner Government Agencies.

The 60-day comment period provided in the interim rule would have closed February 21, 2017. The Agricultural Marketing Service is extending the public comment period for an additional 30 days to ensure that interested persons have sufficient time to review and comment on the interim rule.

Authority: 7 U.S.C. 1621-1627.

Dated: February 14, 2017.
Bruce Summers,
Acting Administrator, Agricultural Marketing Service.

[FR Doc. 2017-03256 Filed 2-16-17; 8:45 am]

BILLING CODE 3410-02-P